INTERNATIONAL TRADE COMMISSION

[Investigation No. 337-TA-529]

Certain Digital Processors, Digital Processing Systems, Components Thereof, and Products Containing Same

AGENCY: United States International Trade Commission.

ACTION: Correction notice for the subject investigation.

SUMMARY: On January 6, 2005, the Commission published in the Federal Register (70 FR 1277) a notice of investigation of certain digital processors, digital processing systems, components thereof, and products containing same under Section 337 of the Tariff Act of 1930, as amended (19 U.S.C. 1337). The Commission gives notice of the following needed corrections to the above mentioned notice: (1) In the section labeled SUMMARY, U.S. Patent No. “4,487,755” should read “4,847,755,” and U.S. Patent No. “5,021,954” should read “5,021,945;” and (2) in the section labeled Scope of Investigation, U.S. Patent No. “4,487,755” should read “4,847,755,” and U.S. Patent No. “5,021,954” should read “5,021,945.”

EFFECTIVE DATE: January 6, 2005.

FOR FURTHER INFORMATION CONTACT: Benjamin D. M. Wood, Esq. (202-205-2582), U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

Issued: February 9, 2005.
By order of the Commission.
Marilyn R. Abbott,
Secretary to the Commission.

[FR Doc. 05-2805 Filed 2-11-05; 8:45 am]

BILLING CODE 7020-02-P